FEDERAL DEPOSIT INSURANCE CORPORATION

Agency Information Collection Activities: Proposed Collection Renewals; Comment Request

Federal Deposit Insurance Corporation (FDIC).

ACTION: Notice and request for comment.

SUMMARY: The FDIC, as part of its continuing effort to reduce paperwork and respondent burden, invites the general public and other Federal agencies to take this opportunity to comment on the renewal of existing collections of information, as required by the Paperwork Reduction Act of 1995. On April 10, 2015, (80 FR 19318), the FDIC requested comment for 60 days on a proposal to renew the following collections of information: (1) Recordkeeping and Confirmation Requirements for Securities Transactions (3064-0028); (2) Interagency Notice of Change in Director or Executive Officer (3064-0097); (3) Certification of Compliance with Mandatory Bars to Employment (3064-0121); (4) Customer Assistance (3064-0134); and, (5) Notice Regarding Assessment Credits (3064-0151). No comments were received. The FDIC hereby gives notice of its plan to submit to OMB a request to approve the renewal of these collections, and again invites comment on this renewal.

DATES: Comments must be submitted on or before July 17, 2015.

ADDRESSES: Interested parties are invited to submit written comments to the FDIC by any of the following methods:

• http://www.fdic.gov/regulations/laws/federal/.

• Email: comments@fdic.gov Include the name and number of the collection in the subject line of the message.

• Mail: Gary A. Kuiper (202-898-3877), Counsel, MB-3074, John W. Popeo (202-898-6923), Counsel, MB-3007, Federal Deposit Insurance Corporation, 550 17th Street NW., Washington, DC 20429.

• Hand Delivery: Comments may be hand-delivered to the guard station at the rear of the 17th Street Building (located on F Street), on business days between 7:00 a.m. and 5:00 p.m.

All comments should refer to the relevant OMB control number. A copy of the comments may also be submitted to the OMB desk officer for the FDIC: Office of Information and Regulatory Affairs, Office of Management and Budget, New Executive Office Building, Washington, DC 20503.

FOR FURTHER INFORMATION CONTACT: Gary A. Kuiper or John Popeo, at the FDIC address above.

SUPPLEMENTARY INFORMATION: Proposal to renew the following currently-approved collections of information:

1. Title: Recordkeeping and Confirmation Requirements for Securities Transactions.

OMB Number: 3064-0028.

Frequency of Response: On occasion.

Affected Public: Business or Other Financial Institutions.

Estimated Number of Respondents: 4,534.

Estimated Time per Response: 27.91 hours.

Total Annual Burden: 126,544 hours.

General Description of Collection: The collection of information requirements are contained in 12 CFR part 344. The purpose of the regulation is to ensure that purchasers of securities in transactions affected by insured state nonmember banks are provided with adequate records concerning the transactions. The regulation is also designed to ensure that insured state nonmember banks maintain adequate records and controls with respect to the securities transactions they effect.

2. Title: Interagency Notice of Change in Director or Executive Officer.

OMB Number: 3064-0097.

Affected Public: Business or Other Financial Institutions.

Estimated Number of Respondents: 840.

Frequency of Response: On occasion.

Estimated Time per Response: 2 hours.

Estimated Total Annual Burden: 1,680 hours.

General Description of Collection: Certain insured state nonmember banks must notify the FDIC of the addition of a director or the employment of a senior executive officer.

3. Title: Certification of Compliance with Mandatory Bars to Employment.

OMB Number: 3064-0121.

Form Number: FDIC 7300/06.

Frequency of Response: On occasion.

Affected Public: Business or Other Financial Institutions.

Estimated Number of Respondents: 600.

Estimated Time per Response: 10 minutes.

Total Annual Burden: 100 hours.

General Description of Collection: Prior to an offer of employment, FDIC job applicants must sign a certification that they have not been convicted of a felony or been in other circumstances that prohibit person from becoming employed by, or providing services to, the FDIC.

4. Title: Customer Assistance.

OMB Number: 3064-0134.

Form Number: FDIC Forms 6422/04; 6422/11.

Affected Public: Individuals, Households, Business or Financial Institutions.

Estimated Number of Respondents: 15,000.

Estimated Time per Response: .5 hours.

Total Annual Burden: 7,500 hours.

General Description of Collection: This collection facilitates the collection of information from customers of financial institutions that have inquiries or complaints about service. Customers or businesses may document their complaints or inquiries to the FDIC using a letter or optional forms (Form 6422/04; 6422/11). The Forms are used to facilitate online completion and submission of the forms and to shorten FDIC response times by making it easier to identify the nature of the complaint and to route the customer or business inquiry to the appropriate FDIC contact.

5. Title: Notice Regarding Assessment Credits.

OMB Number: 3064-0151.

Frequency of Response: On occasion.

Affected Public: FDIC-insured institutions.

Estimated Number of Respondents: 4.

Estimated Time per Response: 2 hours.

Estimated Total Annual Burden: 8 hours.

General Description of Collection: FDIC-insured institutions must notify the FDIC if deposit insurance assessment credits are transferred, e.g., through a sale of the credits or through a merger, in order to obtain recognition of the transfer.

Request for Comment

Comments are invited on: (a) Whether the collections of information are necessary for the proper performance of the FDIC's functions, including whether the information has practical utility; (b) the accuracy of the estimates of the burden of the collections of information, including the validity of the methodology and assumptions used; (c) ways to enhance the quality, utility, and clarity of the information to be collected; and (d) ways to minimize the burden of the collections of information on respondents, including through the use of automated collection techniques or other forms of information technology. All comments will become a matter of public record.

Dated at Washington, DC, this 11th day of June, 2015.
Federal Deposit Insurance Corporation.
Robert E. Feldman,
Executive Secretary.

[FR Doc. 2015-14795 Filed 6-16-15; 8:45 am]

BILLING CODE 6714-01-P